DEPARTMENT OF COMMERCE

National Oceanic and Atmospheric Administration

RIN 0648-XE315

Endangered Species; File Nos. 19331 and 19642

AGENCY: National Marine Fisheries Service (NMFS), National Oceanic and Atmospheric Administration (NOAA), Commerce.

ACTION: Notice; issuance of permits.

SUMMARY: Notice is hereby given that Harold Brundage (File No. 19331), Environmental Research and Consulting, Inc., 126 Bancroft Rd; Kennett Square, PA 19348, and Jason Kahn (File No. 19642), NOAA Fisheries, 1315 East-West Highway, Silver Spring, MD 20910, have been issued permits to take shortnose sturgeon (Acipenser brevirostrum) and Atlantic sturgeon (Acipenser oxyrinchus oxyrinchus) for purposes of conducting scientific research.

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Malcolm Mohead or Erin Markin, (301) 427-8401.

SUPPLEMENTARY INFORMATION: On November 27, 2015, notice was published in the Federal Register (80 FR 74085) that requests for scientific research permits to take shortnose sturgeon and Atlantic sturgeon had been submitted by the above-named individuals. The requested permits have been issued under the authority of the Endangered Species Act of 1973, as amended (ESA; 16 U.S.C. 1531 et seq.) and the regulations governing the taking, importing, and exporting of endangered and threatened species (50 CFR parts 222-226).

File No. 19331: The applicant's objectives are to characterize Atlantic and shortnose sturgeon habitat use in the lower Delaware River (between rkm 0 to rkm 245), studying their relative abundance, recruitment, temporal-spatial distributions, and reproduction. The permit would be valid for five years from the date of issuance.

File No. 19642: The applicant will be authorized to determine and quantify new populations of Atlantic and shortnose sturgeon in the York, Rappahannock, Potomac, and Susquehanna Rivers, and other Chesapeake Bay tributaries of Virginia and Maryland. Additionally, researchers will monitor sturgeon spawning activity, movement, and habitat use through telemetry and side-scan sonar technology. Additionally, researchers will sample Atlantic and shortnose sturgeon captured under other ESA incidental take permits or incidental take statements of other actions to track their coastal wide movements of these species. The permit would be valid for five years from the date of issuance.

Issuance of these permits, as required by the ESA, is based on a finding that such permits (1) are applied for in good faith, (2) will not operate to the disadvantage of such endangered or threatened species, and (3) are consistent with the purposes and policies set forth in section 2 of the ESA.

Dated: July 28, 2016.
Julia Harrison,
Chief, Permits and Conservation Division, Office of Protected Resources, National Marine Fisheries Service.

[FR Doc. 2016-18348 Filed 8-2-16; 8:45 am]

BILLING CODE 3510-22-P